DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), University of Washington, Seattle, WA. The human remains and the associated funerary objects were removed from Kitsap County, WA.

This notice is published as part of the National Park Service's administrative responsibilities under NAGPRA, 25 U.S.C. 3003, (d)(3). The determinations in this notice are the sole responsibility of the museum, institution, or Federal agency that has control of the Native American human remains and associated funerary objects. The National Park Service is not responsible for the determinations in this notice.

A detailed assessment of the human remains was made by the Burke Museum professional staff in consultation with representatives of the Port Gamble Indian Community of the Port Gamble Reservation, Washington and Suquamish Indian Tribe of the Port Madison Reservation, Washington.

At an unknown time, human remains representing a minimum of three individuals were removed from the Old Man House area in Kitsap County, WA, by an unknown person. In 1995, the human remains were formally accessioned as “found in collection” (Burke Accn. #1995-64). No known individuals were identified. The two associated funerary objects are one bag of sediment and one piece of wood.

Minimal museum documentation is associated with the human remains. The human remains were found in the Burke Museum's storage with a note indicating that they were found “at/near O Man House” and the name “A.S. McCrary” with a Seattle address. It is unclear what relationship A.S. McCrary had to the human remains.

At an unknown time, human remains representing a minimum of four individuals are reasonably believed to have been removed from the Old Man House area on the Suquamish Reservation, Kitsap County, WA. The human remains were formally accessioned as “found in collection” in 1995 (Burke Accn. #1995-64). No known individuals were identified. No associated funerary objects are present.

Minimal museum documentation is associated with the human remains. The human remains were found in a box that contained artifacts from the Old Man House area, but are not believed to be associated funerary objects.

Archeological information suggests that the Old Man House site was used for over 2000 years. The Lushootseed name for the Old Man House site is D'Suq'wub. Members of the Suquamish tribe speak the Lushootseed language. The site is also the location of the long house where “Chief” Sealth, also known as Chief Seattle, a leader of the Suquamish, once lived. The earliest written ethnographic information describing the longhouse referred to as Old Man House was by George Gibbs in 1855.

In 1855, the Point Elliot Treaty allocated the land where Old Man House was to the Suquamish. The Suquamish were later removed from these lands in 1904 and 1905, when the United States government seized the land. The area surrounding the Old Man House area has been subject to many different forms of ownership including private property, state property, or reservation property. Based on the lack of definitive information of removal, the Burke Museum has proceeded as the responsible entity.

At an unknown time, human remains representing a minimum of one individual were reasonably believed to have been removed from Suquamish, Kitsap County, WA, by an unknown person. Minimal museum documentation was associated with the human remains and they were formally accessioned as “found in collection” in 1995 (Burke Accn. #1995-64). The 11 associated funerary objects are 2 pebbles, 1 concretion, 2 lots of rodent feces, 4 stone flakes, 1 nut shell fragment, and 1 stone fragment.

According to ethnographic documentation, the Suquamish tribe aboriginally occupied the area surrounding the town of Suquamish (Swanton 1952; Spier 1936). The Suquamish Reservation was established in the Point Elliott Treaty, which allocated the land where the town of Suquamish is currently located to the Suquamish tribe. The town of Suquamish is located less than a mile from the Old Man House site.

Descendants of the Suquamish are members of the Suquamish Indian Tribe of the Port Madison Reservation, Washington. Based on geographical, archeological, historic, ethnographic, and morphological evidence, the human remains are determined to be Native American and culturally affiliated with the Suquamish Indian Tribe of the Port Madison Reservation, Washington.

Officials of the Burke Museum have determined that, pursuant to 25 U.S.C. 3001 (9-10), the human remains described above represent the physical remains of eight individuals of Native American ancestry. Officials of the Burke Museum also have determined that, pursuant to 25 U.S.C. 3001 (3)(A), the 13 objects described above are reasonably believed to have been placed with or near individual human remains at the time of death or later as part of the death rite or ceremony. Lastly, officials of the Burke Museum have determined that, pursuant to 25 U.S.C. 3001 (2), there is a relationship of shared group identity that can be reasonably traced between the Native American human remains and associated funerary objects and the Suquamish Indian Tribe of the Port Madison Reservation, Washington.

Representatives of any other Indian tribe that believes itself to be culturally affiliated with the human remains and associated funerary objects should contact Dr. Peter Lape, Burke Museum, University of Washington, Box 353010, Seattle, WA 98195-3010, telephone (206) 685-2282, before August 29, 2007. Repatriation of the human remains and associated funerary objects to the Suquamish Indian Tribe of the Port Madison Reservation, Washington may proceed after that date if no additional claimants come forward.

The Burke Museum is responsible for notifying the Port Gamble Indian Community of the Port Gamble Reservation, Washington and Suquamish Indian Tribe of the Port Madison Reservation, Washington and that this notice has been published.

Dated: June 20, 2007.
Sherry Hutt,
Manager, National NAGPRA Program.

[FR Doc. E7-14613 Filed 7-27-07; 8:45 am]

BILLING CODE 4312-50-S